DEPARTMENT OF COMMERCE

Census Bureau

Agency Information Collection Activities; Submission to the Office of Management and Budget (OMB) for Review and Approval; Comment Request; National Sample Survey of Registered Nurses

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on April 18, 2025 during a 60-day comment period. This notice allows for an additional 30 days for public comments.

Agency: U.S. Census Bureau, Department of Commerce.

Title: National Sample Survey of Registered Nurses.

OMB Control Number: 0607-1002.

Form Number(s): NSSRN (paper questionnaire).

Type of Request: Regular submission, reinstatement with changes request of a previously approved collection.

Number of Respondents: 37,500 Registered Nurses (RNs) and 25,000 Nurse Practitioners (NPs) for a total of 62,500 respondents.

Average Hours per Response: 30 minutes.

Burden Hours: 31,250.

Needs and Uses: The National Sample Survey of Registered Nurses (NSSRN), which is sponsored by the National Center for Health Workforce Analysis (NCHWA) under the Health Resources Services Administration (HRSA) at the U.S. Department of Health and Human Services, is designed to obtain the necessary data to determine the characteristics and distribution of registered nurses (RNs) throughout the United States, as well as emerging patterns in their employment characteristics. These data will provide the means for the evaluation and assessment of the evolving demographics, educational qualifications, and career employment patterns of RNs. Such data have become particularly important to better understand workforce issues given the recent dynamic changes in the RN population and the transformation of the healthcare system.

The Census Bureau will request survey participation from up to 125,000 RNs using one of two modes. The first mode is a web instrument (Centurion) survey. All letters mailed to respondents will include a web link to complete the survey. The second mode is a mailout/mailback of a self-administered paper-and-pencil interviewing (PAPI) questionnaire. There will be one paper questionnaire mailing. All respondents will have access to a telephone questionnaire assistance line where they will be able to get login assistance, language support, and complete the interview with a Census Bureau telephone interview agent.

For the 2026 cycle, the Census Bureau is proposing a $5 unconditional incentive for 90% of the sample with the initial web invitation letter. The goals of the monetary incentive are to: (1) increase response, thus reducing non-response bias, and (2) reduce costs associated with follow-up mailings. The unconditional monetary incentive will be randomly assigned to 90% of the sample prior to data collection. The remaining 10% of the sample will not receive a monetary incentive. The incentive plan for 2026 is based on an incentive experiment that was conducted in the 2022 NSSRN cycle. Based on the success of the experiment in increasing response and lowering the overall survey cost in the 2022 NSSRN, this incentive strategy is being implemented for the 2026 NSSRN.

To ensure that the 2026 NSSRN is delivering timely and relevant data, there are modifications to the questionnaire which include removing items, modifying existing items, and adding new content for the 2026 NSSRN. Questions relating to the coronavirus pandemic have been removed, as have redundant and unneeded open-ended response options. Explanatory help text and new response options have been added where needed. Finally. additional questions related to teaching/precepting nurses and nursing burnout have been added for 2026 and have undergone cognitive testing.

Affected Public: Nursing populations, researchers, policy makers.

Frequency: The 2026 collection is the third administration of the NSSRN. Data collection is every four years.

Respondent's Obligation: Voluntary.

Legal Authority: Census Bureau Authority: Title 13, United States Code (U.S.C.), Section 8(b) (13 U.S.C. 8(b)).

HRSA Authority: Public Health Service Act, 42 U.S.C. 294n(b)(2)(A) and 42 U.S.C. 295k(a)-(b).

This information collection request may be viewed at www.reginfo.gov. Follow the instructions to view the Department of Commerce collections currently under review by OMB.

Written comments and recommendations for the proposed information collection should be submitted within 30 days of the publication of this notice on the following website, www.reginfo.gov/public/do/PRAMain. Find this particular information collection by selecting “Currently under 30-day Review—Open for Public Comments” or by using the search function and entering either the title of the collection or the OMB Control Number 0607-1002.

Sheleen Dumas,
Departmental PRA Compliance Officer, Office of the Under Secretary for Economic Affairs, Commerce Department.

[FR Doc. 2025-16381 Filed 8-26-25; 8:45 am]

BILLING CODE 3510-07-P